DEPARTMENT OF LABOR

Employment and Training Administration

[TA-W-85,537]

Cargill Meat Solutions Corporation, a Subsidiary of Cargill Incorporated; Including On-Site Leased Workers From Life Technologies and PSSI Sanitation, Milwaukee, Wisconsin; Amended Certification Regarding Eligibility To Apply for Worker Adjustment Assistance

In accordance with Section 223 of the Trade Act of 1974, as amended (“Act”), 19 U.S.C. 2273, the Department of Labor issued a Certification of Eligibility to Apply for Worker Adjustment Assistance on October 7, 2014, applicable to workers of Cargill Meat Solutions Corporation, a subsidiary of Cargill, Incorporated, Milwaukee, Wisconsin. The Department's notice of determination was published in the Federal Register on October 29, 2014 (79 FR 64413).

In response to a request by the state workforce office, the Department reviewed the certification for workers of the subject firm. The workers were engaged in the production of boxed beef, beef trim and beef byproducts.

The investigation confirmed that leased workers from Life Technologies and PSSI Sanitation also worked on-site at the subject firm.

Based on these findings, the Department is amending this certification to include on-site leased workers from Life Technologies and PSSI Sanitation, Milwaukee, Wisconsin.

The amended notice applicable to TA-W-85,537 is hereby issued as follows:

All workers of Cargill Meat Solutions Corporation, a subsidiary of Cargill, Incorporated, including on-site leased workers from Life Technologies and PSSI Sanitation, Milwaukee, Wisconsin, who became totally or partially separated from employment on or after September 15, 2013 through October 7, 2016 are eligible to apply for adjustment assistance under Chapter 2 of Title II of the Trade Act of 1974, as amended, and are also eligible to apply for alternative trade adjustment assistance under Section 246 of the Trade Act of 1974, as amended.

Signed in Washington, DC, this 8th day of December, 2014.
Michael W. Jaffe,
Certifying Officer, Office of Trade Adjustment Assistance.

[FR Doc. 2014-30166 Filed 12-23-14; 8:45 am]

BILLING CODE 4510-FN-P